NATIONAL SCIENCE FOUNDATION

U.S. Antarctic Program Blue Ribbon Panel Review; Notice of Meeting

In accordance with Federal Advisory Committee Act (Pub. L. 92-463, as amended), the National Science Foundation announces the following meeting:

Name: U.S. Antarctic Program Blue Ribbon Panel Review, #76826.

Date/Time: April 20, 2012.

Open Session: 8 a.m. to 4 p.m.

Closed Session: 4 p.m. to 5 p.m.

Place: National Science Foundation, 4201 Wilson Boulevard, Room 1235, Arlington, VA 22230.

Type of Meeting: Partially Open.

Contact Person: Sue LaFratta, Office of Polar Programs (OPP). National Science Foundation, 4201 Wilson Boulevard, Arlington, VA 22230. (703) 292-8030.

Minutes: May be obtained from the contact person listed above.

Purpose of Meeting: The Panel will conduct an independent review of the current U.S. Antarctic Program to ensure the nation is pursuing the best twenty-year trajectory for conducting science and diplomacy in Antarctica—one that is environmentally sound, safe, innovative, affordable, sustainable, and consistent with the Antarctic Treaty.

Agenda: Present the Panel with additional programmatic information related to opportunities and challenges for Antarctic research and research support; discussion of findings and recommendations; planning for final report.

Reason for Closing: One session of the meeting is closed to the public because the Committee will review and discuss confidential commercial information and/or privileged intellectual property that if disclosed could harm the commercial interest of a submitter. The panel discussion could lead to premature disclosure of information that could significantly frustrate the Agency's implementation of proposed actions. Therefore this session is properly closed under exemptions 5 U.S.C. 552b(c), (4) and (9)(B) of the Government in the Sunshine Act.

Dated: April 3, 2012.
Susanne Bolton,
Committee Management Officer.

[FR Doc. 2012-8333 Filed 4-5-12; 8:45 am]

BILLING CODE 7555-01-P